DEPARTMENT OF ENERGY

Federal Energy Regulatory Commission

[Docket No. RP02-396-001]

Great Lakes Gas Transmission Limited Partnership; Notice of Compliance Filing

October 18, 2002.

Take notice that on October 15, 2002, Great Lakes Gas Transmission Limited Partnership (Great Lakes) tendered for filing as part of its FERC Gas Tariff Second Revised Volume No. 1 the following tariff sheets, proposed to be effective October 1, 2002:

Second Substitute Seventh Revised Sheet No. 10A

Second Substitute Eighth Revised Sheet No. 41

Substitute Sixth Revised Sheet No. 42

Substitute Eighth Revised Sheet No. 50C

Great Lakes states that these tariff sheets are being filed to comply with the Commission's Letter Order of September 27, 2002 in Docket No. RP02-396, wherein Great Lakes, July 29, 2002 Order No. 587-O compliance filing was conditionally accepted pending filing of certain revised tariff sheets. Order No. 587-O adopted Version 1.5 of the standards promulgated by the Wholesale Gas Quadrant of the North American Energy Standards Board (NAESB).

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202)502-8222 or for TTY, (202) 502-8659. The Commission strongly encourages electronic filings. See, 18 CFR 385.2001(a)(1)(iii) and the instructions on the Commission's Web site under the “e-Filing” link.

Linwood A. Watson, Jr.,
Deputy Secretary.

[FR Doc. 02-27274 Filed 10-24-02; 8:45 am]

BILLING CODE 6717-01-P